DEPARTMENT OF THE TREASURY

Office of the Comptroller of the Currency

Information Collection; Submission for OMB Review; Comment Request

AGENCY: Office of the Comptroller of the Currency (OCC), Treasury.

ACTION: Submission for OMB review; Comment request.

SUMMARY: The OCC, as part of its continuing effort to reduce paperwork and respondent burden, invites the general public and other Federal agencies to take this opportunity to comment on a continuing information collection, as required by the Paperwork Reduction Act of 1995. The OCC may not conduct or sponsor, and a respondent is not required to respond to an information collection that has been extended, revised, or implemented unless it displays a currently valid OMB control number. Currently, the OCC is soliciting comments concerning extension of an information collection titled (MA)-Loans in Areas Having Special Flood Hazards (12 CFR 22). The OCC also gives notice that it has sent the information collection to the Office of Management and Budget (OMB) for review.

DATES: Comments are due by: May 18, 2005.

ADDRESSES: You should direct all written comments to the Communications Division, Office of the Comptroller of the Currency, Public Information Room, Mailstop 1-5, Attention: 1557-0202, 250 E Street, SW., Washington, DC 20219. In addition, comments may be sent by fax to (202) 874-4448, or by electronic mail to regs.comments@occ.treas.gov. You can inspect and photocopy the comments at the OCC's Public Information Room, 250 E Street, SW., Washington, DC 20219. You can make an appointment to inspect the comments by calling (202) 874-5043.

Additionally, you should send a copy of your comments to Mark Menchik, OMB Desk Officer, 1557-0202, Office of Management and Budget, New Executive Office Building, Room 3208, Washington, DC 20503. Electronic mail address is mmenchik@omb.eop.gov.

FOR FURTHER INFORMATION CONTACT: You can request additional information, a copy of the collection, or a copy of OCC's submission to OMB by contacting Mary Gottlieb or Camille Dixon, (202) 874-5090, Legislative and Regulatory Activities Division (1557-0202), Office of the Comptroller of the Currency, 250 E Street, SW., Washington, DC 20219.

SUPPLEMENTARY INFORMATION: The OCC received no comments in response to its first Paperwork Reduction Act renewal notice regarding this information collection which was published in the Federal Register (70 FR 3769) on January 26, 2005.

Title: (MA)-Loans in Areas Having Special Flood Hazards (12 CFR 22).

OMB Number: 1557-0202.

Form Number: None.

Abstract: This information collection covers an existing regulation and involves no change to the regulation or the information collection. The OCC requests only that OMB renew its approval of the information collection in the current regulation. The regulation requires national banks to make disclosures and keep records regarding whether a property securing a loan is located in a special flood hazard area.

This information collection is required by section 303(a) and title V of the Riegle Community Development and Regulatory Improvement Act, Pub. L. 103-325, title V, 108 Stat. 2160, the National Flood Insurance Reform Act of 1994 amendments to the National Flood Insurance Act of 1968 (12 U.S.C. 4104a and 4104b) and the Flood Disaster Protection Act of 1973 (12 U.S.C. 4012a and 4106(b)), and by OCC regulations implementing those statutes located at 12 CFR 22.6, 22.7, 22.9, and 22.10.

The information collections are as follows:

12 CFR 22.6 requires a national bank to use and maintain a copy of the Standard Flood Hazard Determination Form developed by FEMA.

12 CFR 22.7 requires a national bank or its loan servicer, if a borrower has not obtained adequate flood insurance, to notify the borrower to obtain adequate flood insurance or the bank or servicer will purchase flood insurance on the borrower's behalf.

12 CFR 22.9 requires a national bank making a loan secured by a building or a mobile home to advise the borrower and the loan servicer that the property is, or is not, located in a special flood hazard area, if flood insurance is available under the National Flood Insurance Program, and if Federal disaster relief may be available in the event of flooding. The bank must maintain a record of the borrower's and loan servicer's receipts of these notices.

12 CFR 22.10 requires a national bank making a loan secured by a building or a mobile home located in a special flood hazard area to notify FEMA of the identity of the servicer, and of any change in servicers.

These information collections ensure bank compliance with applicable Federal law, further bank safety and soundness, provide protections for banks and the public, and further public policy interests.

Type of Review: Renewal of OMB approval without change.

Affected Public: Businesses or other for-profit.

Number of Respondents: 2,300.

Total Annual Responses: 230,000.

Frequency of Response: On occasion.

Total Annual Burden Hours: 58,650.

Comments: All comments will become a matter of public record. Comments are invited on:

(a) Whether the collection of information is necessary for the proper performance of the functions of the agency, including whether the information shall have practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or startup costs and costs of operation, maintenance, and purchase of services to provide information.

Stuart Feldstein,
Assistant Director, Legislative & Regulatory Activities Division.

[FR Doc. 05-7614 Filed 4-17-05; 8:45 am]

BILLING CODE 4810-33-P